Title 3—

The President

Proclamation 7589 of September 4, 2002

National Alcohol and Drug Addiction Recovery Month, 2002

By the President of the United States of America

A Proclamation

Drug and alcohol abuse destroys the hopes of men, women, and young people and takes a terrible toll on society. Addiction destroys the lives of countless Americans, shatters families, and threatens the safety of our neighborhoods.

National Alcohol and Drug Addiction Recovery Month provides an important opportunity to promote the values that have given people the strength to beat drug and alcohol abuse and remain drug-free. The theme of this year's commemoration, Join the Voices of Recovery: A Call to Action, emphasizes the critical role of communities in encouraging individuals with substance abuse problems to seek help. While those who suffer from addiction must help themselves, it is also crucial for family, friends, and people with shared experiences to support those fighting to overcome substance abuse. Those in recovery play a key role in helping others achieve healthy lives. They can convey important information about the toll of alcohol and drug addiction and the benefits of recovery, inspire others to succeed, and allow young people to learn valuable lessons about their experiences.

As a Nation, we must aggressively promote compassionate treatment for those suffering from addiction. When individuals begin the process of recovery, they take an important first step toward regaining dignity and hope. Across our Nation, we know that many Americans who are dependent on drugs are not receiving the treatment they need. My National Drug Control Strategy expands drug treatment to Americans who need it. For 2003, my Administration proposes $3.8 billion for drug treatment, an increase of more than 6 percent over 2002. This includes a $100 million increase in treatment spending for 2003 as part of a plan to add $1.6 billion over 5 years. Staying clean and sober is a lifelong responsibility, and those who succeed improve their health, can better enjoy their family and friends, and are more likely to find success in the workplace. The vast majority of people in recovery are capable individuals who contribute to America's strength. We celebrate the success of those in recovery, but we must help those still suffering from dependence and battling addiction.

My Administration is implementing an effective national strategy that is community-based. We have established the goal of a 10 percent reduction of drug use over the next 2 years, and a 25 percent reduction over the next 5 years. We must stop drug use before it starts, heal America's drug users, and disrupt the supply of and demand for drugs in our country. And we must continue the fight against alcohol abuse and the toll it takes on our society. Together, we can achieve these goals, help save lives, and restore hope to individuals and families.

NOW, THEREFORE, I, GEORGE W. BUSH, President of the United States of America, by virtue of the authority vested in me by the Constitution and laws of the United States, do hereby proclaim September 2002 as National Alcohol and Drug Addiction Recovery Month. I call upon all the people of the United States to observe this month with appropriate programs, ceremonies, and activities.

IN WITNESS WHEREOF, I have hereunto set my hand this fourth day of September, in the year of our Lord two thousand two, and of the Independence of the United States of America the two hundred and twenty-seventh.

B

[FR Doc. 02-23006

Filed 9-6-02; 8:45 am]

Billing code 3195-01-P